FEDERAL EMERGENCY MANAGEMENT AGENCY

44 CFR Part 67

[Docket No. FEMA-D-7520]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD): Existing | #Depth in feet above ground. *Elevation in feet (NGVD): Modified | Communities affected
ILLINOIS
(City of Columbia and Monroe County)
Carr Creek | Approximately 275 feet upstream of of Bluff Road | *421 | *422 | City of Columbia, Unincorporated Areas of Monroe County
| Approximately 600 feet upstream of Gall Road | None | *449
Carr Creek Tributary | At the confluence with Carr Creek | None | *446 | City of Columbia, Unincorporated Areas of Monroe County
| Approximately 1,620 feet upstream of confluence with Carr Creek | None | *448
Palmer Creek | Approximately 0.66 mile downstream of Union Pacific Railroad | None | *402 | City of Columbia, Unincorporated Areas of Monroe County
| At Rueck Road | *455 | *454
Palmer Creek Tributary | At the confluence with Palmer Creek | *435 | *431 | City of Columbia, Unincorporated Areas of Monroe County
| Approximately 760 feet upstream of abandoned railroad | *474 | *473
Rueck Creek | At the confluence with Palmer Creek | None | *432 | City of Columbia, Unincorporated Areas of Monroe County
| Approximately 0.83 mile upstream of confluence with Palmer Creek | None | *452
Wilson Creek | At the confluence with Carr Creek | None | *429 | City of Columbia
| Approximately 500 feet upstream of South Main Street | None | *482
Monroe County (Unincorporated Areas)
Maps available for inspection at the Monroe County Zoning Office, Monroe County Courthouse, 100 South Main Street, Waterloo, Illinois.
Send comments to Mr. Robert Rippelmeyer, Chairman of the Monroe County Board of Commissioners, Monroe County Courthouse, 100 South Main Street, Waterloo, Illinois 62298.
City of Columbia
Maps available for inspection at the Columbia City Hall, 208 South Rapp Avenue, Columbia, Illinois.
Send comments to The Honorable Lester Schneider, Mayor of the City of Columbia, 208 South Rapp Avenue, Columbia, Illinois 62236.
VIRGINIA
Southampton County and Town of Courtland
Blackwater River | At the confluence with Chowan River | *11 | *14 | Southampton County
| Approximately 6,700 feet upstream of State Route 620 (Broadwater Road) | None | *36 | (Unincorporated Areas)
Nottoway River | At the confluence with Chowan River | *11 | *14 | Southampton County
| Approximately 2,400 feet upstream of Norfolk Franklin & Danville Railroad | *26 | *27 | (Unincorporated Areas); Courtland (Town)
Southampton County (Unincorporated Areas)
Maps available for inspection at the Southampton County Administrator's Office, 26022 Administration Center Driver, Courtland, Virginia.
Send comments to Mr. Michael W. Johnson, Southampton County Administrator, 26022 Administration Center Drive, Courtland, Virginia 23837.
Town of Courtland
Maps available for inspection at the Courtland Town Office, 22219 Meherrin Road, Courtland, Virginia.
Send comments to The Honorable Lewis H. Davis, Sr., Mayor of the Town of Courtland, P.O. Box 39, Courtland, Virginia 23837.

(Catalog of Federal Domestic Assistance No. 83.100, “Flood Insurance.”)
Dated: January 29, 2002.
Robert F. Shea,
Acting Administrator, Federal Insurance and Mitigation Administration.

[FR Doc. 02-2663 Filed 2-4-02; 8:45 am]

BILLING CODE 6718-04-P